DEPARTMENT OF COMMERCE

National Oceanic and Atmospheric Administration

RIN 0648-XA828

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, December 5-13, 2011 at the Anchorage Hilton Hotel.

DATES: The Council will begin its plenary session at 8 a.m. on Wednesday, December 7 continuing through Tuesday, December 13, 2011. Council's Advisory Panel (AP) will begin at 8 a.m., Monday, December 5 and continue through Friday, December 9, 2011. The Scientific Statistical Committee (SSC) will begin at 8 a.m. on Monday, December 5 and continue through Wednesday, December 7, 2011. The Halibut Charter Implementation Committee will meet Tuesday, December 6 at 4 p.m. in Lupine/Willow room. All meetings are open to the public, except executive sessions.

ADDRESSES: The meetings will be held at the Hilton Hotel, 500 West Third Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION:

Council Plenary Session

The agenda for the Council's plenary session will include the following issues. The Council may take appropriate action on any of the issues identified.

Reports

1. Executive Director's Report (including Standard Operations and Procedures (SOPPs) review/approval and update on workshop with International Pacific Halibut Commission (IPHC)).

NMFS Management Report

Alaska Department of Fish & Game Report (including halibut subsistence update);

NOAA Enforcement Report;

United States Coast Guard Report;

United States Fish & Wildlife Service Report;

Protected Species Report (including Steller Sea Lion (SSL) Center of Independent Experts (CIE) Terms of Reference).

2. Pacific Cod Jig Fishery Management: Report on Board of Fisheries action and discuss next steps.

3. Salmon Fishery Management Plan (FMP): Final action to approve Salmon FMP.

4. Groundfish Harvest Specifications: Approve final BSAI groundfish specifications and Stock Assessment Fishery Evaluation (SAFE) reports. Approve final GOA groundfish specifications and SAFE reports.

5. Bering Sea Aleutian Island (BSAI) Crab Stakeholders reports(5-year review issues): Crew compensation/active participation/excessive lease rates; binding arbitration; community issues/Right of first refusal (ROFR).

6. Freezer Longline Vessel Replacement: Initial review of analysis to allow replacement of freezer longline vessels.

7. Halibut Catch Sharing plan: IPHC report on 2012 staff recommendations; ADF&G report on 2010/2011 sport catch estimates, and logbook versus statewide harvest survey comparisons; Council guidance to IPHC for 2012 management measures; Review Charter Halibut Committee report on revising Catch Share Plan (CSP) Tier one management measures; Review NMFS report on CSP deficiencies and provide Council direction.

8. Groundfish Issues: Review Bering Sea Habitat Conservation Area Boundary; Discussion paper on Gulf of Alaska (GOA) Chinook salmon bycatch in all fisheries; Discussion paper on GOA Pacific Cod A-season opening dates; Review/approve Halibut mortality on trawlers Exempted Fishing Permit (EFP); Establishing a Community Quota Entity (CQE)Program in Area 4b; final action.

9. Staff Tasking: Review Committees and tasking.

10. Other Business

The SSC agenda will include the following issues:

1. Groundfish Specifications.

2. FFL vessel replacement.

3. Review/approve halibut mortality on trawler EFP.

The Advisory Panel will address most of the same agenda issues as the Council, except C-6 Halibut CSP and #1 B reports. The Agenda is subject to change, and the latest version will be posted at http://www.alaskafisheries.noaa.gov/npfmc/.

Special Accommodations

These meetings are physically accessible to people with disabilities. Requests for sign language interpretation or other auxiliary aids should be directed to Gail Bendixen at (907) 271-2809 at least 7 working days prior to the meeting date.

Dated: November 14, 2011.
Tracey L. Thompson,
Acting Director, Office of Sustainable Fisheries, National Marine Fisheries Service.

[FR Doc. 2011-29732 Filed 11-16-11; 8:45 am]

BILLING CODE 3510-22-P